DEPARTMENT OF THE INTERIOR

National Park Service

[NPS-NRSS-GRD-12018; PPWONRADG0, PPMRSNR1N.NG0000]

Information Collection Request Sent to the Office of Management and Budget (OMB) for Approval; Mining and Mining Claims and Non-Federal Oil and Gas Rights

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on February 28, 2013. We may not conduct or sponsor and a person is not required to respond to a collection of information unless it displays a currently valid OMB control number. However, under OMB regulations, we may continue to conduct or sponsor this information collection while it is pending at OMB.

DATES: You must submit comments on or before February 13, 2013.

ADDRESSES: Send your comments and suggestions on this information collection to the Desk Officer for the Department of the Interior at OMB-OIRA at (202) 395-5806 (fax) or OIRA_Submission@omb.eop.gov (email). Please provide a copy of your comments to the Information Collection Clearance Officer, National Park Service, 1201 I Street NW., MS 1237, Washington, DC 20005 (mail); or madonna_baucum@nps.gov (email). Please reference OMB Control Number 1024-0064 in the subject line of your comments.

FOR FURTHER INFORMATION CONTACT: To request additional information about this ICR, contact Edward O. Kassman, Jr., Regulatory Specialist, Energy and Minerals Branch, Geologic Resources Division, National Park Service, P.O. Box 25287, Lakewood, Colorado 80225 (mail); (303) 987-6792 (fax); or Edward_Kassman@nps.gov (email). You may review the ICR online at http://www.reginfo.gov. Follow the instructions to review Department of the Interior collections under review by OMB.

I. Abstract

The Organic Act of 1916 (NPS Organic Act) (16 U.S.C. 1 et seq.) authorizes the Secretary of the Interior to develop regulations for national park units under the Department's jurisdiction. The Mining in the Parks Act (16 U.S.C. 1901 et seq.) directs the Secretary of the Interior to regulate all operations in park units in connection with the exercise of mineral rights on patented and unpatented mining claims.

The regulations at 36 CFR part 9, Subparts A and B, ensure that mining and non-Federal oil and gas activities on units of the National Park System are conducted in a manner consistent with preserving each unit for the benefit of present and future generations. The information required by Subpart A identifies the claim, claimant, and operator (the claimant and operator are often the same) and details how the operator intends to access and develop the minerals associated with the claim. It also identifies the steps the operator intends to take to minimize any adverse impacts of the mining operations on park resource and values. No information, except claim ownership information, is submitted unless the claimant wishes to conduct mining operations. The information required by Subpart B identifies the owner and operator (the owner and operator are often the same) and details how the operator intends to access and develop the oil and gas rights. It also identifies the steps the operator intends to take to minimize any adverse impacts on park resources and values. No information is submitted unless the owner wishes to conduct oil and gas operations.

II. Data

OMB Control Number: 1024-0064.

Title: Mining Claims and Non-Federal Oil and Gas Rights, 36 CFR part 9, Subparts A and B.

Service Form Number: None.

Type of Request: Extension of a currently approved collection.

Description of Respondents: Businesses.

Respondent's Obligation: Required to obtain or retain a benefit.

Frequency of Collection: On occasion.

Activity | Number of respondents | Number of responses | Completion time per response | Total annual burden hours
Mining and Mining Claims | 1 | 1 | 176 | 176
Non-Federal Oil and Gas Rights | 20 | 20 | 176 | 3,520
Totals | 21 | 21 |  | 3,696

Estimated Annual Nonhour Burden Cost: None.

III. Request for Comments

On July 20, 2012, we published in the Federal Register (77 FR 42760) a notice of our intent to request that OMB renew approval for this information collection. In that notice, we solicited comments for 60 days, ending on September 18, 2012. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: January 8, 2013.
Madonna L. Baucum,
Information Collection Clearance Officer, National Park Service.

[FR Doc. 2013-00524 Filed 1-11-13; 8:45 am]

BILLING CODE 4312-EH-P